POSTAL REGULATORY COMMISSION

39 CFR part 3050

[Docket No. RM2026-2; Order No. 9433]

Periodic Reporting

AGENCY: Postal Regulatory Commission.

ACTION: Notice of proposed rulemaking.

SUMMARY: The Commission is acknowledging a recent Postal Service filing requesting the Commission initiate a rulemaking proceeding to consider changes to analytical principles relating to periodic reports. This document informs the public of the filing, invites public comment, and takes other administrative steps.

DATES: Comments are due: February 23, 2026.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Proposal

III. Notice and Comment

IV. Ordering Paragraphs

I. Introduction

On January 21, 2026, the Postal Service filed a petition pursuant to 39 CFR 3050.11 requesting that the Commission initiate a rulemaking proceeding to consider a proposed change to analytical principles relating to the Postal Service's periodic reports.¹ The Petition identifies the proposed analytical principles change filed in this docket as modifications to the Revenue, Pieces, and Weight (RPW) reporting methodology for using unadjusted Origin-Destination Information System (ODIS)—RPW statistical sample estimates. Petition, Proposal at 3. Specifically, the Postal Service seeks to change the RPW reporting methodology for measuring the national totals of U.S. Postal Service Mail, Free Mail, and Absentee Ballots.² For these mail categories, the ODIS-RPW sampling estimates would no longer be subject to the Book Revenue Adjustment Factor (BRAF) adjustment. Id.

¹ Petition of the United States Postal Service to Initiate a Proceeding to Change Analytical Principles, January 21, 2026 (Petition). The proposed change is attached to the Petition (Proposal).

² Id. Free Mail includes Free Matter for the Blind and/or Other Physically Handicapped Persons and Free Government Mail. Id.

II. Proposal

Background. The Postal Service proposes to exclude ODIS-RPW sampling estimates for U.S. Postal Service Mail, Free Mail, and Absentee Ballots from the BRAF adjustment no earlier than FY 2026, Quarter 2. Id. at 3-4. If approved, in the FY 2026 Annual Compliance Report (ACR), it would retrospectively revise RPW numbers for FY 2026, Quarter 1 and FY 2025 same period last year (SPLY). Id. at 4.

Rationale. The proposed methodology change would stop applying the BRAF adjustment to mail categories sampled through ODIS-RPW that have no associated revenue. Id. The Postal Service explains that the purpose of the BRAF is to adjust the ODIS-RPW sample estimates so that the total revenue is equal to the Residual Trial Balance Revenue.³ It states that U.S. Postal Service Mail, Free Mail, and Absentee Ballots do not impact the BRAF because they have zero revenue, and their zero revenues cannot be adjusted by the BRAF. Id. at 4. Thus, the BRAF adjustment should not apply to the ODIS-RPW sampling estimates for these mail categories. Id.

³ Id. at 3. Specifically, the BRAF adjusts ODIS-RPW estimates “by the ratio of the Residual Trial Balance divided by the total ODIS-RPW Single-Piece Sampling Revenue (not including Forever Usage) so that the total adjusted ODIS-RPW estimates revenue equals the Residual Trial Balance.” Id. at 4. The BRAF also adjusts volume and weight estimates to maintain consistent revenue per piece and weight per piece estimates. Id.

Impact. To measure the impact of the proposed methodology change, the Postal Service filed the FY 2025 ACR RPW (for the full fiscal year and by quarter) without BRAF adjustments to U.S. Postal Service Mail, Free Mail, and Absentee Ballots and compared them to the original versions with the BRAF adjustments. Id. These filings show the absolute and percentage change of the proposed methodology relative to the current methodology. Id.

The Postal Service asserts that if the proposed methodology replaced the current methodology in FY 2025, revenue for the following categories would not have changed: U.S. Postal Service Mail, Free Mail, Ancillary Service Transactions, Total Market Dominant Mail, Total Mail, Total All Services, and Total All Mail and Services. Id. at 5. Also, Total All Revenue and Total All Other Revenue would not have changed. Id. For U.S. Postal Service Mail and Free Mail, volume would have increased by 1.1 percent and 3.1 percent, respectively; and weight would have increased by 1.6 percent and 2.3 percent, respectively. Id. For Ancillary Service Transactions, volume would have increased by 0.3 percent, and weight would not have changed. Id. For Total Market Dominant Mail and Total Mail, both volume and weight would have changed by less than 0.1 percent. Id. The Postal Service concludes that the proposed methodology change will improve the reporting of ODIS-RPW estimates for U.S. Postal Service Mail, Free Mail, and Absentee Ballots. Id.

III. Notice and Comment

Pursuant to 39 CFR 3050.11(d)(1), the Commission establishes Docket No. RM2026-2 to consider the matters raised by the Petition. More information on the Petition may be accessed via the Commission's website at https://www.prc.gov. Interested persons may submit comments on the Petition and the Proposal no later than February 23, 2026. Pursuant to 39 U.S.C. 505, Katalin Clendenin is designated as an officer of the Commission (Public Representative) to represent the interests of the general public in this proceeding. The Public Representative does not represent any individual person, entity or particular point of view, and, when Commission attorneys are appointed, no attorney-client relationship is established.

IV. Ordering Paragraphs

It is ordered:

1. The Commission establishes Docket No. RM2026-2 to consider the matters raised by the Petition of the United States Postal Service to Initiate a Proceeding to Change Analytical Principles, filed January 21, 2026.

2. Comments by interested persons in this proceeding are due no later than February 23, 2026.

3. Pursuant to 39 U.S.C. 505, the Commission appoints Katalin Clendenin to serve as an officer of the Commission (Public Representative) to represent the interests of the general public in this docket.

4. This Order, or abstract thereof, shall be published in the Federal Register.

By the Commission.
Parvaneh Higareda
Alternate Federal Register Liaison.

[FR Doc. 2026-01637 Filed 1-26-26; 8:45 am]

BILLING CODE 7710-FW-P